DEPARTMENT OF COMMERCE

National Oceanic and Atmospheric Administration

50 CFR Part 600

[I.D. 110601C]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination that an EFP application, submitted by the Massachusetts Division of Marine Fisheries (MDMF), contains all the information as required by the regulations that govern exempted experimental fishing under the provisions of the Magnuson-Stevens Fishery Conservation and Management Act (Magnuson-Stevens Act) and has determined that the application warrants further consideration. The Regional Administrator has also made a preliminary determination that the activities authorized under the EFP will be consistent with the goals and objectives of the Northeast Multispecies Fishery Management Plan (FMP). However, further review and consultation may be necessary before a final determination is made to issue an EFP. Therefore, NMFS announces that the Regional Administrator intends to issue an EFP that would allow a single vessel to conduct fishing operations in areas in the Gulf of Maine that would otherwise be closed by regulations governing the multispecies groundfish fisheries of the Northeastern United States. This notification is intended to provide interested parties the opportunity to comment on the proposed experimental fishery.

DATES: Comments must be received by December 14, 2001.

ADDRESSES: Comments should be sent to Patricia A. Kurkul, Regional Administrator, NMFS, Northeast Regional Office, 1 Blackburn Drive, Gloucester, MA 01930. Mark on the outside of the envelope “Comments on Proposed Experimental Fishery.”

FOR FURTHER INFORMATION CONTACT: Tom Warren, Fishery Management Specialist, 978-281-9347.

SUPPLEMENTARY INFORMATION: The regulations that govern exempted experimental fishing, at 50 CFR 600.745, allow the Regional Administrator to authorize for certain purposes the targeting or incidental harvest of managed species that would otherwise be prohibited. An EFP to authorize such activity may be issued, provided there is adequate opportunity for the public to comment on the EFP application as required under 50 CFR 600.745 (b)(3), and the conservation goals and objectives of the FMP are not compromised.

The MDMF submitted to NMFS on October 15, 2001, an application for an EFP to conduct gear research in the groundfish fishery in the Gulf of Maine (GOM). The Regional Administrator has determined that this application warrants further consideration. The research would target flatfish and cod in block 124 (a 30 minute square as used by the Multispecies FMP), during February and March, with the objective of comparing two designs of modified sink gillnets to a traditional sink gillnet design. The experimental sink gillnets would use modified leadlines and floatlines to reduce the vertical profile of the nets in order to exploit behavioral differences between cod and flatfish. Keeping the nets close to the bottom may allow flatfish to continue to be captured while cod are avoided. The goal of the research is to further the design of a sink gillnet that could result in significant reductions in the bycatch of cod in the sink gillnet sector of the flatfish fishery. This research is highly pertinent to the management of groundfish species under the FMP.

A single vessel would conduct 10 overnight gillnet sets, with approximately 24 hours soak time. Each overnight set would be composed of two strings of experimental nets and two strings of standard nets serving as controls. Each string would consist of eight nets, each 300 ft (91.4 m) long, for a total of 32 nets used per overnight set. The gillnets would be deployed and hauled using standard commercial practices.

The vessel would utilize its multispecies days-at-sea and fish in compliance with the pertinent mesh size, minimum fish size, and trip limit regulations of the FMP. Manomet Center for Conservation Sciences observers or MDMF personnel would be on board the vessel during all trips when the gillnets are hauled. Legal catch would be kept and marketed, and the proceeds would serve as partial compensation to the vessel owner and crew for participation in the experiment. All incidental species and non-legal catch will be discarded following measurement and enumeration. The principal investigator of the experiment received funding for the research from the Northeast Consortium (NEC). The NEC is an organization composed of New England fishing industry members and university staff that facilitates the funding of cooperative fishery research.

An EFP would be required to exempt the vessel from the GOM Rolling Closure Area VI and Rolling Closure Area I, during February and March, respectively. The vessel would be prohibited from fishing in that portion of block 124 that is inclusive of the Western GOM area closure.

The proposed location and timing of the experiment is based on the experience of some industry members and similar research (Phase I) conducted in December 2000 and January 2001 that concluded that the absence of an adequate number of flatfish during Phase I of that study was a result of the research having been conducted in sub-optimal places and times. The proposed experiment (Phase II) in block 124 during February and March is thought to be optimal for catching sufficient quantities of cod and flatfish to test the experimental hypothesis.

Regulations under the Magnuson-Stevens Act require publication of this notification to provide interested parties with the opportunity to comment on application for proposed EFPs. Based on the outcome of this EFP, this action may lead to further rulemaking.

Authority: 16 U.S.C. 1801 et seq.

Dated: November 21, 2001.
Bruce C. Morehead,
Acting Director, Office of Sustainable Fisheries, National Marine Fisheries Service.

[FR Doc. 01-29640 Filed 11-28-01; 8:45 am]

BILLING CODE 3510-22-S